DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which approval from the Office of Management and Budget (OMB) will be requested.

DATES: Comments on this notice must be received by September 3, 2013.

FOR FURTHER INFORMATION CONTACT: Michele L. Brooks, Director, Program Development and Regulatory Analysis, Rural Utilities Service, 1400 Independence Ave. SW., STOP 1522, Room 5162-South Building, Washington, DC 20250-1522. Telephone: (202) 690-1078, FAX: (202) 720-8435 or email: michele.brooks@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Michele L. Brooks, Director, Program Development and Regulatory Analysis, Rural Utilities Service, U.S. Department of Agriculture, 1400 Independence Ave. SW., Stop 1522, Room 5162-South Building, Washington, DC 20250-1522, FAX: (202) 720-8435 or email: michele.brooks@wdc.usda.gov.

Title: Broadband Initiatives Program—Rural Libraries, Technical Assistance, and Satellite Grants.

OMB Control Number: 0572-0145.

Type of Request: Extension of a currently approved information collection.

Abstract: Pursuant to the American Recovery and Reinvestment Act of 2009 (Recovery Act) the Rural Utilities Service's Broadband Initiatives Program (BIP) announced funding for specific grants for Satellite, Rural Library Broadband and Technical Assistance. Grant awardees under the program are required to comply with OMB reporting requirements implementing the Recovery Act.¹ RUS is no longer awarding Recovery Act funds under this program, however this Information Collection remains active because awardees are required to comply with Recovery Act recordkeeping and reporting requirements under this collection and may be submitting reports.

¹ See, e.g., 2 CFR pt. 176, Interim Final Guidance for Federal Financial Assistance, 74 FR 18449 (Apr. 23, 2009); Implementing Guidance for Reports on Use of Funds Pursuant to the American Recovery and Reinvestment Act of 2009 (OMB M-09-21 June 22, 2009); and updated Guidance on the American Recovery and Reinvestment Act of 2009 (OMB M-10-08 Dec. 18, 2009).

Estimate of Burden: Public reporting burden for this collection of information is estimated to average 22 hours per response.

Respondents: Business or other for-profit organizations.

Estimated Number of Respondents: 134.

Estimated Number of Responses per Respondent: 2.8.

Estimated Total Annual Burden on Respondents: 8,427.

Copies of this information collection can be obtained from Rebecca Hunt, Program Development and Regulatory Analysis, at (202) 205-3660, FAX: (202) 720-8435 or email: rebecca.hunt@wdc.usda.gov.

All responses to this notice will be summarized and included in the request for OMB approval. All comments will also become a matter of public record.

Dated: June 27, 2013.
John Charles Padalino,
Acting Administrator, Rural Utilities Service.

[FR Doc. 2013-15987 Filed 7-2-13; 8:45 am]

BILLING CODE P